DEPARTMENT OF TRANSPORTATION

Federal Aviation Administration

Notice of Intent To Rule on Application 02-05-C-00-PSC To Impose and Use the Revenue From a Passenger Facility Charge (PFC) at Tri-Cities Airport, Submitted by the Port of Pasco, Tri-Cities Airport, Pasco, WA

AGENCY: Federal Aviation Administration (FAA), DOT.

ACTION: Notice of intent to rule on application.

SUMMARY: The FAA proposes to rule and invites public comment on the application to impose and use PFC revenue at Tri-Cities Airport under the provisions of 49 U.S.C. 40117 and part 158 of the Federal Aviation Regulations (14 CFR part 158).

DATES: Comments must be received on or before November 27, 2002.

ADDRESSES: Comments on this application may be mailed or delivered in triplicate to the FAA at the following address: Mr, J. Wade Bryant, Manager, Seattle Airports District Office, SEA-ADO; Federal Aviation Administration, 1601 Lind Avenue SW., Suite 250, Renton, Washington 98055-4056.

In addition, one copy of any comments submitted to the FAA must be mailed or delivered to Mr. James Morasch, A.A.E, Director of Airports, at the following address: 3601 North 20th Avenue, Pasco, Washington 99301.

Air Carriers and foreign air carriers may submit copies of written comments previously provided to Bellingham International Airport, under § 158.23 of part 158.

FOR FURTHER INFORMATION CONTACT: Ms. Suzanne Lee-Pang, (425) 227-2654, Seattle Airports District Office, SEA-ADO, Federal Aviation Administration; 1601 Lind Avenue SW., Suite 250, Renton, Washington 98055-4056. The application may be reviewed in person at this same location.

SUPPLEMENTARY INFORMATION: The FAA proposes to rule and invites public comment on the application 02-05-C-00-PSC to impose and use PFC revenue at Tri-Cities Airport, under the provisions of 49 U.S.C. 40117 and part 158 of the Federal Aviation Regulations (14 CFR part 158).

On October 21, 2002, the FAA determined that the application to impose and use the revenue from a PFC submitted by Port of Pasco, Tri-Cities Airport, and Pasco, Washington was substantially complete within the requirements of § 158.25 of part 158. The FAA will approve or disapprove the application, in whole or in part, no later than January 25, 2003.

The following is a brief overview of the application.

Level of the proposed PFC: $4.50.

Proposed charge effective date: April 1, 2002.

Proposed charge expiration date: February 1, 2006.

Total requested for use approval: $1,409,000.

Brief description of proposed project: Security Enhancements, Terminal Building Passenger Boarding Area Upgrades, and Interactive Training Systems.

Class or classes of air carriers, which the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Tri-Cities Airport.

Issued in Renton, Washington on October 21, 2002.
David A. Field,
Manager, Planning, Programming, and Capacity Branch, Northwest Mountain Region.

[FR Doc. 02-27382 Filed 10-25-02; 8:45 am]

BILLING CODE 4910-13-M